DEPARTMENT OF TRANSPORTATION

Federal Aviation Administration

Notice of Release From Federal Grant Assurance Obligations for Taylor Airport, Taylor, Arizona

AGENCY: Federal Aviation Administration, DOT.

ACTION: Notice of Request to Release Airport Land.

SUMMARY: The Federal Aviation Administration (FAA) proposes to rule and invites public comment on the application for a release of approximately .3885 acre of airport property at Taylor Airport, Taylor, Arizona, from all conditions contained in the Grant Agreement Assurances since the land is not needed for airport purposes. The property will be sold for its fair market value and the proceeds deposited in the airport account. The reuse of the land will not conflict or interfere with the airport or its operation, thereby protecting the interests of civil aviation.

DATES: Comments must be received on or before August 4, 2014.

FOR FURTHER INFORMATION CONTACT: Comments on the request may be mailed or delivered to the FAA at the following address: Tony Garcia, Airports Compliance Program Manager, Federal Aviation Administration, Airports Division, Federal Register Comment, 15000 Aviation Blvd., Lawndale, CA 90261. In addition, one copy of the comment submitted to the FAA must be mailed or delivered to Mr. Gus Lundberg, Town Manager, Town of Taylor, P.O. Box 158, Taylor, AZ 85939, Telephone (928) 536-7366.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by surplus property conveyance deeds or grant agreements.

The following is a brief overview of the request:

The Town of Taylor, Arizona requested a release from the conditions and restrictions contained in the Grant Agreement Assurances to allow the sale of a small amount of airport land, measuring approximately .3885 acre. The property is located on the west side of the airport in the vicinity of Foothills Boulevard. In 2006, the Town acquired a parcel of land to expand the west side of the airport. About the same time, an adjoining parcel was purchased by a local citizen who proceeded to develop the acquired property. The Town subsequently discovered that development by the private property owner mistakenly encroached into airport property because the boundary line between the airport and adjacent private property had not been properly surveyed. Since the amount of land affected by the encroachment was deemed minimal, the Town concluded that a sale of the .3885 acre would be a practical solution to the encroachment error since the land is not needed for airport development. The sale price will be based on appraised market value of the property and the sale proceeds will be deposited in the airport account and used for airport purposes. The airport will be properly compensated, thereby serving the interests of civil aviation.

Issued in Hawthorne, California, on June 25, 2014.
Steven Oetzell,
Acting Manager, Safety and Standards, Airports Division, Western-Pacific Region.

[FR Doc. 2014-15694 Filed 7-2-14; 8:45 am]

BILLING CODE 4910-13-P